ENVIRONMENTAL PROTECTION AGENCY

[FRL-8781-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2291.01; Coalbed Methane Extraction Sector Survey; in 40 CFR part 435; was approved 02/18/2009; OMB Number 2040-0279; expires 02/29/2012.

EPA ICR Number 2152.03; Clean Air Interstate Rule to Reduce Interstate Transport of Fine Particle Matter and Ozone (Renewal); in 40 CFR part 96; was approved 02/24/2009; OMB Number 2060-0570; expires 02/29/2012.

EPA ICR Number 0801.16; Requirements for Generators, Transporters, and Waste Management Facilities under the RCRA Hazardous Waste Manifest System (Renewal); in 40 CFR parts 262, 263, 264 and 265; was approved 02/24/2009; OMB Number 2050-0039; expires 02/29/2012.

EPA ICR Number 2205.02; Focus Groups as Used by EPA for Economics Projects; was approved 03/03/2009; OMB Number 2090-0028; expires 03/31/2012.

EPA ICR Number 2350.01; CERCLA 104(e) Letters for Coal Combustion Waste at Electric Utilities; was approved 03/05/2009; OMB Number 2050-0199; expires 09/30/2009.

OMB Comments Filed

EPA ICR Number 2303.01; NESHAP for Ferroalloys Production Facilities (40 CFR part 63, subpart YYYYYY) (Proposed Rule); on 02/24/2009, OMB filed comment.

Dated: March 6, 2009.
John Moses,
Acting Director, Collection Strategies Division.

[FR Doc. E9-5532 Filed 3-12-09; 8:45 am]

BILLING CODE 6560-50-P